DEPARTMENT OF AGRICULTURE

Rural Business-Cooperative Service

[Docket #: RBS-22-BUSINESS-0029]

Notice of Processing Timeline Change for the Rural Energy for America Program for Fiscal Year 2023

AGENCY: Rural Business-Cooperative Service, USDA.

ACTION: Notice.

SUMMARY: The Rural Business-Cooperative Service (the Agency) is issuing a notice of the Agency's intention to remove the self-imposed restriction that all Fiscal Year (FY) 2023 applications that were submitted under the Rural Energy for America Program (REAP) prior to June 30, 2023, and were not funded in the national unrestricted pooling competitions, must be withdrawn.

DATES: This notice is effective September 14, 2023.

FOR FURTHER INFORMATION CONTACT: Jonathan Burns, Program Management Division, Rural Business-Cooperative Service, United States Department of Agriculture, 774-678-7238 or email CPgrants@usda.gov.

SUPPLEMENTARY INFORMATION:

Background

The Agency published two funding opportunity notices and a correction notice in the Federal Register for REAP for FY23. The first notice published December 16, 2022 (87 FR 77059), the second notice on March 31, 2023 (88 FR 19239), and the correction notice published May 31, 2023 (88 FR 34823). The two funding notices state that obligations will take place through September 30, 2023, and complete and eligible applications which were not funded in the national unrestricted pooling must be withdrawn. The Agency is removing the self-imposed deadline on the national unrestricted pooling competitions for FY23 due to the overwhelming response to REAP for FY 2023. The Agency will continue processing applications received by June 30, 2023, into the first quarter of FY 2024 for participation in these national competitions. Unfunded applications from the national competitions will not be moved into the next FY 2024 funding cycle and must be withdrawn.

Karama Neal,
Administrator, Rural Business-Cooperative Service.

[FR Doc. 2023-19868 Filed 9-13-23; 8:45 am]

BILLING CODE 3410-XY-P